Proclamation 10097 of October 8, 2020

Leif Erikson Day, 2020

By the President of the United States of America

A Proclamation

More than 1,000 years ago, the Norse explorer and Viking Leif Erikson made landfall in modern-day Newfoundland, likely becoming the first European to discover the New World. Today, Leif Erikson represents over a millennium of shared history between the Nordic countries and the Americas and symbolizes the many contributions of Nordic Americans to our great Nation.

Accomplished in the face of daunting danger and carried out in service of Judeo-Christian values, Leif Erikson's story reflects the fundamental truths about the American character. On a mission to evangelize Greenland, Leif Erikson and his crew were blown off course. They had to brave the cold waters of the northern Atlantic to find safe harbor on the North American coastline. In surviving this ordeal, these hardened Vikings tested the limits of human exploration in a way that continues to inspire us today.

In 1825, six Norwegian families repeated this voyage, landing their sloop in New York Harbor in the first organized migration to the United States from Scandinavia. Like the Puritans and pilgrims before them, these people came to our Nation seeking religious freedom and safety from persecution. Now, more than 11 million Americans can trace their roots to Denmark, Finland, Iceland, Norway, and Sweden, and among them stand Nobel Laureates, Academy Award winners, and Legion of Merit recipients. Across our Nation, from the Danish villages of western Iowa to the Norwegian Ridge in Minnesota and the Finns of Michigan's Upper Peninsula, Nordic Americans have left their mark on our culture, economy, and society.

Nordic countries remain strong economic partners and military allies of our Nation. They each hold important roles in the Arctic Council, facilitating cooperation on economic development, environmental conservation, and indigenous rights. As North Atlantic Treaty Organization Allies and partners, all five Nordic countries greatly contribute to the peace and stability of the transatlantic community and the entire world. The United States greatly values their continued friendship.

On Leif Erikson Day, we celebrate Nordic Americans whose firm faith and resolve are woven into the fabric of our Nation, and we commit to continuing our strong diplomatic relationship with Scandinavian nations for years to come.

To honor Leif Erikson, son of Iceland and grandson of Norway, and to celebrate our Nordic-American heritage, the Congress, by joint resolution (Public Law 88-566) approved on September 2, 1964, has authorized the President of the United States to proclaim October 9 of each year as “Leif Erikson Day.”

NOW, THEREFORE, I, DONALD J. TRUMP, President of the United States of America, by virtue of the authority vested in me by the Constitution and the laws of the United States, do hereby proclaim October 9, 2020, as Leif Erikson Day. I call upon all Americans to celebrate the contributions of Nordic Americans to our Nation with appropriate ceremonies, activities, and programs.

IN WITNESS WHEREOF, I have hereunto set my hand this eighth day of October, in the year of our Lord two thousand twenty, and of the Independence of the United States of America the two hundred and forty-fifth.

[FR Doc. 2020-22908

Filed 10-13-20; 11:15 am]

Billing code 3295-F1-P